DEPARTMENT OF TRANSPORTATION

Pipeline and Hazardous Materials Safety Administration

[Docket No. PHMSA-2025-0018]

Pipeline Safety: Pipeline Safety Management System

AGENCY: Pipeline and Hazardous Materials Safety Administration (PHMSA), Department of Transportation.

ACTION: Notice; issuance of advisory bulletin.

SUMMARY: PHMSA is issuing this advisory bulletin to promote the implementation of a pipeline safety management system (PSMS) by regulated pipeline owners and operators.

FOR FURTHER INFORMATION CONTACT: Joseph Yoon by phone at 202-819-1547 or by email at joseph.yoon@dot.gov.

SUPPLEMENTARY INFORMATION: PSMS provides a proactive and systematic approach to risk management of complex processes across the pipeline organization to operate safely and to improve safety performance. PSMS also provides a scalable framework for pipeline operators of varying size, scope, and level of PSMS implementation maturity. PHMSA encourages pipeline operators to develop and to implement PSMS programs, using a framework such as the one detailed in American Petroleum Institute (API) Recommended Practice (RP) 1173: Pipeline Safety Management Systems (API RP 1173). The framework should define the elements for identifying, managing, and reducing risks throughout the pipeline life cycle. Issuance of this advisory bulletin is consistent with section 205 of the Protecting our Infrastructure of Pipelines and Enhancing Safety (PIPES) Act of 2020 (Pub. L. 116-260),¹ which directs the Secretary of Transportation (Secretary) to “promote” the implementation of pipeline safety management systems by pipeline operators. It also addresses the National Transportation Safety Board's (NTSB) Safety Recommendation P-24-002.

¹ See 49 U.S.C. 60103 note.

I. Background

A safety management system (SMS) is an organization-wide approach to managing safety risk through systematic procedures, practices, and policies. The Federal Aviation Administration (FAA) defines SMS as a “formal, top-down, organization-wide approach to managing safety risk and assuring the effectiveness of safety risk controls. It includes systematic procedures, practices, and policies for the management of safety risk.” ² In the pipeline community, SMS is similarly described as a “systematic approach to managing safety, including the structures, policies, and procedures an organization uses to direct and control its activities.” ³

² FAA Order 8000.369C, Safety Management System, (June 24, 2020), https://www.faa.gov/documentLibrary/media/Order/Order_8000.369C.pdf.

³ Pipeline SMS Industry Team, Introduction to Pipeline SMS Implementation, Book 2: What is a Pipeline SMS?, https://pipelinesms.org/wp-content/uploads/2021/01/DM2018-045-Pipeline-SMS-Book-2_PRINT-READY_CMYK_062119_Branding-Updates.pdf.

NTSB has long advocated for PSMS implementation by the pipeline industry. After investigating two serious accidents in 2010, NTSB found that pipeline safety would be enhanced if pipeline companies implemented SMSs. The first accident occurred on July 25, 2010, when a 30-inch pipeline ruptured in Marshall, Michigan, resulting in the estimated release of 840,000 gallons of crude oil into the Kalamazoo River. The second accident occurred on September 9, 2010, when a natural gas transmission pipeline ruptured in San Bruno, California, killing eight people, injuring many more, and destroying 38 homes.

NTSB issued Pipeline Accident Report NTSB/PAR-12/01 following its investigation of the former accident.⁴ In discussing the benefits of applying SMS to pipeline systems, NTSB stated:

⁴ NTSB, PAR-12/01, Enbridge Incorporated Hazardous Liquid Pipeline Rupture and Release, Marshall, Michigan, July 25, 2010, (July 10, 2012), https://www.ntsb.gov/investigations/AccidentReports/Reports/PAR1201.pdf.

In recent years, several transportation modes have implemented SMSs to enhance the safety of their operations, and the NTSB has consistently supported these activities. The NTSB has advocated the implementation of SMSs in transportation systems by elevating SMSs to its Most Wanted List. However, the NTSB has not called for an SMS in pipeline operations. This Marshall accident and the 2010 pipeline accident in San Bruno, California, indicate that SMSs are needed to enhance the safety of pipeline operations.

Both the San Bruno accident and the Marshall accident involved errors at the management and operator levels in both pipeline integrity and control center operations. The delays in recognizing and responding to the pipeline rupture and the deficiencies in control center team performance were prominent aspects of both accidents. . . .

The evidence from this accident and from the San Bruno accident indicates that company oversight of pipeline control center management and operator performance was deficient. In both cases, pipeline ruptures were inadequately identified and delays in identifying and responding to the leaks exacerbated the consequences of the initial pipeline ruptures.

Therefore, the NTSB conclude[d] that pipeline safety would be enhanced if pipeline companies implemented SMSs.⁵

⁵ NTSB, PAR-12/01, at 116-117.

Having reached these conclusions, NTSB issued Safety Recommendation P-12-17 advising API to “facilitate the development of a safety management system standard specific to the pipeline industry that is similar in scope to [API's] Recommended Practice 750, Management of Process Hazards.” API responded by forming a multi-stakeholder work group, including PHMSA representatives, to develop a PSMS recommended practice, and that effort ultimately led to the issuance of API RP 1173 (1st edition) on July 8, 2015.

In response to API RP 1173, the pipeline industry formed a PSMS Industry Team (PSMS Team) to educate stakeholders and to enhance safe pipeline operations through the implementation and use of PSMSs.⁶ The PSMS Team developed various tools that pipeline operators could use as guidelines to assist in planning, developing, and implementing PSMSs. Since the issuance of API RP 1173 in 2015, PHMSA, States, various industry associations, and other stakeholders have encouraged voluntary implementation of PSMS across the pipeline industry. In its 2023 Annual Report, the PSMS Team indicated that nearly 85 percent of total pipeline industry mileage is covered by PSMS.⁷ Information obtained from a 2023 PHMSA voluntary information collection to determine how many gas distribution operators are implementing PSMSs indicated that about 86 percent of all gas distribution pipeline mileage is operated by companies that have begun implementing PSMSs voluntarily.⁸

⁶ Pipeline SMS Industry Team, 2016 Liquids Pipeline SMS Annual Report (2016), https://pipelinesms.org/wp-content/uploads/2018/04/API-Pipeline-SMS-Annual-Report-2016.pdf.

⁷ Pipeline SMS Industry Team, Pipeline SMS 2023 Annual Report, at 7 (July 1, 2024), https://pipelinesms.org/wp-content/uploads/2024/07/2023-Pipeline-SMS-Annual-Report.pdf.

⁸ See PHMSA, Report to Congress—Implementation of Safety Management Systems by Gas Distribution Pipeline Operators (Aug. 2, 2024), https://www.phmsa.dot.gov/news/report-congress-implementation-safety-management-systems-gas-distribution-pipeline-operators.

In January 2024, NTSB issued Safety Recommendation P-24-002 to PHMSA in response to a pipeline release that occurred on October 1, 2021, in San Pedro Bay in California. In that safety recommendation, NTSB advised PHMSA to “[i]ssue an advisory bulletin to all Pipeline and Hazardous Materials Safety Administration-regulated pipeline owners and operators, promoting the benefits of pipeline safety management systems and asking them to develop and implement such a system based on American Petroleum Institute Recommended Practice 1173.” ⁹ NTSB stated that “the implementation of a robust PSMS program would have helped” the operator of the ruptured pipeline “comply with regulations, ensure employees were following company procedures, and better prepare personnel to respond and react to the conditions found during this release.” ¹⁰ NTSB concluded that had a PSMS been in place, the operator “may have further evaluated their operations, identified continuous improvement opportunities, and better positioned their staff to respond and react to a leak.” ¹¹

⁹ NTSB, MIR-24-01, Anchor Strike of Underwater Pipeline and Eventual Crude Oil Release, San Pedro Bay, Near Huntington Beach, California, October 1, 2021, (Jan. 2, 2024), https://www.ntsb.gov/investigations/AccidentReports/Reports/MIR2401.pdf.

¹⁰ NTSB, MIR-24-01, at 84.

¹¹ NTSB, MIR-24-01, at 84.

In July 2024, NTSB issued a Safety Alert, “Pipeline Safety Management Systems: Vital for the Safe Operation of Pipelines.” ¹² In that safety alert, NTSB noted it found that: (1) “pipeline safety would be enhanced if companies implemented [PSMS];” (2) “[a]lthough PSMS have been adopted by operators representing 85 percent of industry pipeline mileage, many operators, particularly smaller operators, have not yet adopted PSMS;” (3) “[t]he pipeline industry continues to have accidents that could have been prevented or the consequences more effectively mitigated had risks been more thoroughly identified and addressed;” and (4) “[w]ithout full commitment from the pipeline industry to implement and mature PSMS, pipeline accidents will continue to occur and the industry will not be able to meet their goal of zero accidents, fatalities, and serious injuries.” ¹³

¹² NTSB, SA-095, Pipeline Safety Management Systems: Vital for the Safe Operations of Pipelines (July 2024), https://www.ntsb.gov/Advocacy/safety-alerts/Documents/SA-095.pdf.

¹³ NTSB, SA-095 at 1.

NTSB further noted that pipeline operators can: (1) “[i]mplement a robust PSMS as described in API RP 1173. API RP 1173 Pipeline Safety Management System requirements provide guidance for operators to establish a system to continuously track and improve safety”; (2) “[f]or those who have incorporated PSMS into their practices, continue to improve operations and training. Pipeline operators with PSMS cannot be complacent. One of the hallmarks of a good PSMS is that it continuously evolves and improves safety programs”; (3) “[s]upport revisions to API RP 1173 and other guidance as it is developed to include small operators and contractors in their efforts to establish a PSMS. According to the 2022 Pipeline SMS Annual Report, `Last year also featured important initiatives to support small operator and contractor implementation of RP 1173 along their journey of continuous improvement and the combined vision of One Industry, One Team, One Mission, Pipeline Safety' ”; and (4) “[w]ith a PSMS, operators can ensure pipelines are designed, constructed, operated, and maintained in a way that complies with more than the minimum safety standards found in regulations. Experience has shown that using a PSMS can be effective and result in significant reductions of serious pipeline accidents each year.” ¹⁴

¹⁴ NTSB, SA-095 at 2-3.

Section 205 of the PIPES Act of 2020 directed the Secretary to submit to Congress a report describing the progress of gas distribution pipeline operators with respect to implementation of API RP 1173 and the feasibility of natural gas distribution system operators implementing PSMS based on the size of the operator. Section 205 further directed the Secretary and the State authorities with a certification in effect to promote and to assess pipeline safety management system frameworks developed by operators of natural gas distribution systems. PHMSA is delegated with carrying out this mandate.

PHMSA submitted that report to Congress on August 2, 2024. The report concluded, among other things, that:

With respect to [gas distribution] operators whose leadership have demonstrated a tangible commitment to implementing a PSMS, there is a clear trend for larger operator's PSMS efforts to be reported as “on-track,” which accounts for roughly two-thirds of the largest category of operators. However, more than one-half of the smallest category of operators reported that their PSMS efforts best fit the “stalled” characterization. Based on the data [collected by PHMSA from the operators to prepare the report] . . . small operators are much less likely to implement a PSMS than large operators. . . . Although the API RP 1173 framework is intended to be scalable for pipeline operators of varying size and scope, and the essential elements of the framework apply to organizations of any size or sophistication, it appears that very small operators need additional guidance to realize the benefits of implementing a PSMS. PHMSA recommend[ed] that the American Gas Association and the American Public Gas Association continue to promote the implementation of a PSMS and provide guidance to their members, particularly the smaller operators to assist them in realizing the value of implementing a PSMS program. PHMSA will continue to work with its state partners to promote PSMS implementation by all operators. PHMSA will also continue participating on API's task group reviewing the current API RP 1173 to develop a revision that provides additional guidance to smaller operators, enabling them to implement a size-scaled PSMS program.¹⁵

¹⁵ PHMSA, Report to Congress—Implementation of Safety Management Systems by Gas Distribution Pipeline Operators (Aug. 2, 2024), https://www.phmsa.dot.gov/news/report-congress-implementation-safety-management-systems-gas-distribution-pipeline-operators.

Major pipeline accidents with serious consequences are rare in this country; but, when they occur, they are generally because of an alignment of weaknesses or failures across multiple activities. To manage the safety of complex processes involved in the design, installation, operation, and maintenance throughout the life cycle of a pipeline, coordinated actions to address multiple dynamic activities and circumstances are required. PSMS, coupled with a strong safety culture, enables operators to identify and to analyze hazards proactively and to manage the associated risks to prevent harm to people and the environment, and, ultimately, to reach both PHMSA's and the industry's goal of zero incidents.

PHMSA believes that it is in the best interest of safety that operators build and maintain a strong safety culture. A pipeline operator's culture comprises, among other things, the everyday attitudes, values, norms, and beliefs with respect to risk, safety, and environmental protection shared throughout the organization by leaders and employees of all levels. Operators can continuously strengthen their safety culture by establishing safety as a core value and, more importantly, through their everyday actions. Maintaining a strong safety culture requires operators to address safety issues proactively, and to understand and to address threats against the operator's safety culture, such as complacency, fear of reprisal, overconfidence, and normalization of deviance. Implementing a well-designed PSMS strengthens an operator's safety culture. Each element of PSMS supports safety culture and the culture feeds back into PSMS in a continuous process. This results in a strong and positive safety culture, an increasingly mature PSMS, and enhanced pipeline safety. Building and nurturing a strong safety culture helps achieve the best safety outcomes. API RP 1173 provides several examples of a positive safety culture that should be considered by all operators.¹⁶

¹⁶ API RP 1173: Pipeline Safety Management Systems, at xi, 7, 8, 10, 16, and 21 (First ed., reaffirmed April 2023).

PHMSA is issuing this advisory bulletin to help promote the benefits of PSMS more broadly, and to encourage regulated pipeline owners and operators to implement PSMS based on API RP 1173 voluntarily as part of their efforts to build and to maintain a strong safety culture that improves the safety performance of their systems.¹⁷ Guidance and advisory bulletins are not rules; are not meant to bind the public in any way; and do not assign duties, create legally enforceable rights, or impose new obligations that are not otherwise contained in regulations.

¹⁷ PHMSA also notes that the current NTSB Chair has supported the voluntary adoption of PSMS by the owners and operators of PHMSA-regulated pipelines. Statement of Jennifer Homendy, Panel at 2024 Pipeline Safety Trust Conference (Nov. 21, 2024), 24:19 to 29:44 and 36:15-36:30, available at https://youtu.be/OdlbjKZMYAY?si=Va_hlyvqRpGhsl8G.

II. Advisory Bulletin (ADB-2025-01)

To: Owners and Operators of Regulated Pipelines.

Subject: Pipeline Safety Management System.

Advisory: PHMSA is issuing this advisory bulletin to promote and to encourage regulated pipeline owners and operators in developing and implementing a pipeline safety management system (PSMS) based on a framework such as the one detailed in the American Petroleum Institute's (API) Recommended Practice (RP) 1173: Pipeline Safety Management Systems (API RP 1173). This is consistent with section 205 of the Protecting our Infrastructure of Pipelines and Enhancing Safety Act of 2020 (Pub. L. 116-260),¹⁸ which directed the Secretary of Transportation to “promote” the implementation of pipeline safety management systems by pipeline operators, and the National Transportation Safety Board's (NTSB) Safety Recommendation P-24-002. This advisory bulletin promotes the implementation of PSMSs to improve the safety performance of the Nation's pipeline system continually to protect the public from the risks associated with pipelines.

¹⁸ See 49 U.S.C. 60103 note.

The contents of this advisory bulletin do not have the force and effect of law. They are not meant to bind operators nor the public in any way.

API RP 1173 provides a PSMS framework that builds upon an operator's existing practices with particular emphasis on proactively looking for safety gaps, encouraging the non-punitive reporting of safety issues, and promptly responding to those issues. API RP 1173 emphasizes clarifying the safety roles and responsibilities of leadership, top management, and employees at all levels throughout the operator's organization, including contractor support. PSMS, underpinned by a strong safety culture, makes safety programs and processes more effective to help prevent pipeline accidents.

The 10 essential elements of PSMSs outlined in API RP 1173, and the principles underlying them, apply to operators of any size and complexity. The complexity of a pipeline operator's PSMS program should be appropriate for the size of their operations and the risks their systems pose to the public and environment.

PHMSA encourages the voluntary adoption of PSMS based on a framework such as the one detailed in API RP 1173, as PHMSA believes developing and implementing PSMS would be an effective way to enhance pipeline safety systematically. PHMSA shares NTSB's view that a voluntarily adopted PSMS program can ensure pipelines are designed, constructed, operated, and maintained in a way that complies with more than just the minimum safety standards found in regulations.

For the reasons noted herein, PHMSA strongly encourages regulated pipeline owners and operators to take the following actions to strengthen their pipeline safety programs:

• Implement a PSMS program and ensure that the program covers all essential elements of an effective PSMS, such as those in API RP 1173.

• Ensure the PSMS program continuously evolves and improves.

• Maintain a positive safety culture that continually promotes diligence throughout the operator's organization and addresses issues that can erode the safety culture.

Issued in Washington, DC, on March 19, 2025, under authority delegated in 49 CFR 1.97.
Linda Daugherty,
Acting Associate Administrator for Pipeline Safety.

[FR Doc. 2025-04960 Filed 3-24-25; 8:45 am]

BILLING CODE 4910-60-P